DEPARTMENT OF COMMERCE

National Oceanic and Atmospheric Administration

RIN 0648-XE436

Marine Mammals; File No. 19309

AGENCY: National Marine Fisheries Service (NMFS), National Oceanic and Atmospheric Administration (NOAA), Commerce.

ACTION: Notice; issuance of permit.

SUMMARY: Notice is hereby given that a permit has been issued to the NMFS Marine Mammal Laboratory, 7600 Sand Point Way NE., Seattle, WA 98115-6349 (Responsible Party: John Bengtson, Ph.D.), to conduct research on pinnipeds in Alaska.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Sloan, (301) 427-8401.

SUPPLEMENTARY INFORMATION: On February 23, 2016, notice was published in the Federal Register (89 FR 8942) that the above-named applicant requested a permit to conduct research on pinnipeds. The requested permit has been issued under the authority of the Marine Mammal Protection Act of 1972, as amended (16 U.S.C. 1361 et seq.), and the regulations governing the taking and importing of marine mammals (50 CFR part 216).

Permit No. 19309 authorizes takes of bearded (Erignathus barbatus), harbor (Phoca vitulina), ribbon (Histriophoca fasciata), ringed (Phoca hispida hispida), and spotted seals (Phoca largha) in the North Pacific Ocean, Bering Sea, Arctic Ocean, and coastal regions of Alaska. The purposes of the research are to investigate the foraging ecology, population abundance and trends, population structure, habitat requirements, health, vital rates, and effects of natural and anthropogenic factors on these species. Seals may be (1) captured and handled for sampling and deployment of telemetry devices, (2) incidentally harassed annually during capture activities or collection of feces and other samples from haul-out substrate, and (3) harassed during manned and unmanned aerial surveys. Steller sea lions (Eumetopias jubatus) of the Eastern Distinct Population Segment may be taken annually by incidental harassment during harbor seal aerial surveys. Authorization is provided for unintentional mortalities of each seal species. The permit expires on March 25, 2021.

In compliance with the National Environmental Policy Act of 1969 (42 U.S.C. 4321 et seq.), a final determination has been made that the activity proposed is categorically excluded from the requirement to prepare an environmental assessment or environmental impact statement.

Dated: April 21, 2016.
Julia Harrison,
Chief, Permits and Conservation Division, Office of Protected Resources, National Marine Fisheries Service.

[FR Doc. 2016-10037 Filed 4-28-16; 8:45 am]

BILLING CODE 3510-22-P